BUREAU OF CONSUMER FINANCIAL PROTECTION

[Docket No. CFPB-2022-0005]

Agency Information Collection Activities: Comment Request

AGENCY: Bureau of Consumer Financial Protection.

ACTION: Notice and request for comment.

SUMMARY: In accordance with the Paperwork Reduction Act of 1995 (PRA), the Consumer Financial Protection Bureau (Bureau or CFPB) is requesting to extend the Office of Management and Budget's (OMB's) approval for an existing information collection titled “Consumer Complaint Intake System Company Portal Boarding Form.”

DATES: Written comments are encouraged and must be received on or before March 29, 2022 to be assured of consideration.

ADDRESSES: You may submit comments, identified by the title of the information collection, OMB Control Number (see below), and docket number (see above), by any of the following methods:

• Federal eRulemaking Portal: http://www.regulations.gov. Follow the instructions for submitting comments

• Email: PRA_Comments@cfpb.gov. Include Docket No. CFPB-2022-0005 in the subject line of the email.

• Mail/Hand Delivery/Courier: Comment Intake, Consumer Financial Protection Bureau (Attention: PRA Office), 1700 G Street NW, Washington, DC 20552. Please note that due to circumstances associated with the COVID-19 pandemic, the Bureau discourages the submission of comments by mail, hand delivery, or courier. Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Anthony May, PRA Officer, at (202) 435-7278, or email: CFPB_PRA@cfpb.gov. If you require this document in an alternative electronic format, please contact CFPB_Accessibility@cfpb.gov. Please do not submit comments to these email boxes.

SUPPLEMENTARY INFORMATION: Title of Collection: Consumer Complaint Intake System Company Portal Boarding Form.

OMB Control Number: 3170-0054.

Type of Review: Extension of a currently approved information collection.

Affected Public: Private sector.

Estimated Number of Respondents: 400.

Estimated Total Annual Burden Hours: 85.

Abstract: Section 1013(b)(3)(A) of the Dodd-Frank Wall Street Reform and Consumer Protection Act, Public Law 111-203, requires the Bureau to “facilitate the centralized collection of, monitoring of, and response to consumer complaints regarding consumer financial products or services.” ¹ In furtherance of its statutory mandates related to consumer complaints, the Bureau utilizes a Consumer Complaint Intake System Company Portal Boarding Form (Boarding Form) to sign up companies for access to the secure, web-based Company Portal (Company Portal). The Company Portal allows companies to view and respond to complaints submitted to the Bureau, supports the efficient routing of consumer complaints to companies, and enables a timely and secure response by companies to the Bureau and consumers.²

¹ Codified at 12 U.S.C. 5493(b)(3)(A). See also Dodd-Frank Act, section 1034 (discussing responses to consumer complaints), codified at 12 U.S.C. 5534; section 1021(c)(2) (noting that one of the Bureau's primary functions is “collecting, investigating, and responding to consumer complaints”), codified at 12 U.S.C. 5511(c)(2).

² In addition to the Boarding Form for companies, the Bureau utilizes separate OMB-approved forms to board government agencies and congressional offices onto their own distinct portals to access certain complaint information through OMB Control Number 3170-0057 (Consumer Response Government and Congressional Boarding Forms; expires 6/30/2022).

This is a routine request for OMB to extend its approval of the information collection currently approved under OMB Control Number 3170-0054. For this extension, the Bureau is proposing to decrease the annual number of unboarded companies who will complete this form for the first time from 550 to 400. The Bureau is also updating the Privacy Act Statement on the form.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Anthony May,
Paperwork Reduction Act Officer, Consumer Financial Protection Bureau.

[FR Doc. 2022-01758 Filed 1-27-22; 8:45 am]

BILLING CODE 4810-AM-P